DEPARTMENT OF TRANSPORTATION

Surface Transportation Board

[STB Finance Docket No. 34145]

Bulkmatic Railroad Corporation—Acquisition Exemption—Bulkmatic Transport Company

Bulkmatic Railroad Corporation, a noncarrier, has filed a verified notice of exemption under 49 CFR 1150.31 to acquire by sublease from Bulkmatic Transport Company approximately 3.9 miles of railroad right-of-way and trackage known as Bulkmatic Distribution Center, at Chicago Heights, IL (line).¹

¹ Chicago Heights Switching Company will be the operator of the line. See Chicago Heights Switching Company-Operation Exemption-Bulkmatic Railroad Corporation, STB Finance Docket No. 34146 (STB served Jan. 15, 2002).

The transaction was scheduled to be consummated on January 1, 2002.²

² On December 26, 2001, a petition to stay the effective dates of the exemptions in both STB Finance Docket No. 34145 and STB Finance Docket No. 34146 was filed by Joseph C. Szabo, for and on behalf of the United Transportation Union-Illinois Legislative Board. By decision served December 27, 2001, the petition for stay was denied.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34145, must be filed with the Surface Transportation Board, Office of the Secretary, Case Control Unit, 1925 K Street, NW., Washington, DC 20423-0001. In addition, a copy of each pleading must be served on David C. Dillon, Esq., Dillon & Nash, 111 West Washington Street, Suite 719, Chicago, IL 60602.

Board decisions and notices are available on our website at www.stb.dot.gov.

Decided: January 4, 2002.
By the Board, David M. Konschnik, Director, Office of Proceedings.
Vernon A. Williams,
Secretary.

[FR Doc. 02-763 Filed 1-14-02; 8:45 am]

BILLING CODE 4915-00-P